DEPARTMENT OF THE INTERIOR

Geological Survey

Office of the Secretary; Notice of Renewal of the Advisory Committee on Water Information Charter.

AGENCY: United States Geological Survey.

ACTION: Notice of Renewal of the Advisory Committee on Water Information Charter

SUMMARY: Following consultation with the General Services Administration, notice is hereby given that the Secretary of the Interior is renewing the Advisory Committee on Water Information (ACWI).

The ACWI has been established under the authority of Office of Management and Budget Memorandum No. M-92-01 and the Federal Advisory Committee act. The purpose of this Presidential Committee is to represent the interests of water-information users and professionals in advising the Federal Government on Federal water-information programs and their effectiveness in meeting the Nation's water-information needs. Member organizations help to foster communications between the Federal and non-Federal sectors of sharing water information.

Membership represents a wide range of water resources interests and functions. Representation on the ACWI includes all levels of government, academia, private industry, and professional and technical societies. Member organizations designate their representatives and alternates. Membership is limited to a maximum of 35 organization.

The Committee will function solely as an advisory body, and in compliance with the provisions of the Federal Advisory Committee Act. The Charter will be filed under the Act, 15 days from the date of publication of this notice.

FOR FURTHER INFORMATION CONTACT: Ms. Toni M. Johnson (Executive Secretary), Chief, Water Information Coordination Program, U.S. Geological Survey, 12201 Sunrise Valley Drive, MS 417, Reston, Virginia 20192. Telephone: 703-648-6810; Fax: 703-648-5644.

Dated: February 1, 2008.
Dirk Kempthorne,
Secretary of the Interior.

[FR Doc. 08-612 Filed 2-12-08; 8:45 am]

BILLING CODE 4311-AM-M